CORPORATION FOR NATIONAL AND COMMUNITY SERVICE

45 CFR Part 2500

RIN 3045-AA83

AmeriCorps Statement of Organization

AGENCY: Corporation for National and Community Service.

ACTION: Proposed rule.

SUMMARY: The Corporation for National and Community Service (CNCS), which operates as AmeriCorps, is proposing a rule to provide general information to the public about its structure and purpose, as required by the Administrative Procedure Act. While AmeriCorps already provides information about its organizational structure on its public-facing website (americorps.gov), this rule would comply with the statutory requirement that specifically requires agencies to publish in the Federal Register their descriptions of organization. This rule will also increase transparency regarding AmeriCorps' operations by mapping out its existing program regulations, thereby providing an overview of the Agency's programs.

DATES: Written comments must be submitted by July 3, 2023.

ADDRESSES: You may send your comments electronically through the Federal government's one-stop rulemaking website at www.regulations.gov. You may also send your comments to Elizabeth Appel, Associate General Counsel, at eappel@cns.gov or by mail to AmeriCorps, 250 E Street SW, Washington, DC 20525.

FOR FURTHER INFORMATION CONTACT: Elizabeth Appel, Office of General Counsel, at (202) 967-5070, or eappel@cns.gov.

SUPPLEMENTARY INFORMATION:

I. Background

AmeriCorps, the operating name for the Corporation for National and Community Service, is a Federal agency that engages millions of Americans in service. AmeriCorps members and AmeriCorps Seniors volunteers serve directly with nonprofit, tribal, faith-based, or community organizations to tackle some of our nation's most pressing challenges. Although AmeriCorps already provides information about its organizational structure on its website, www.americorps.gov, this rule would comply with the statutory requirement that specifically requires agencies to “publish in the Federal Register” their descriptions of organization. See 5 U.S.C. 552(a)(1)(A). This rule will also increase transparency regarding AmeriCorps' operations by mapping out its existing program regulations, thereby providing an overview of the Agency's programs.

This proposed rule adds AmeriCorps' organizational information to Code of Federal Regulations (CFR) part 2500. Part 2500 already includes information about AmeriCorps being CNCS's operating name and information about AmeriCorps' logos. This proposed rule would redesignate, without substantive change, the operating name and logo sections to new sections later in the CFR part and would add subpart designations. The following is a breakdown of the new and redesignated sections:

Current 45 CFR section | Proposed 45 CFR section | Description of change
| Subpart A—Introduction | New subpart designation.
| 2500.1 Creation and authority | New section.
2500.1 Agency Operating Name | 2500.2 Agency operating name | Redesignated without substantive change.
| 2500.3 Purpose and mission | New section.
| Subpart B—Organization | New subpart designation.
| 2500.10 General | New section.
| 2500.11 AmeriCorps headquarters | New section.
| 2500.12 Region offices | New section.
| Subpart C—Programs | New subpart designation.
| 2500.20 Program descriptions | New section.
| 2500.21 Focus areas | New section.
| Subpart D—Logos | New subpart designation.
2500.2 Description of Logos | 2500.30 Description of logos | Redesignated without substantive change.
2500.3 Retirement of Logos | 2500.31 Retirement of logos | Redesignated without substantive change.
2500.4 Authority to affix logos | 2500.32 Authority to affix logos | Redesignated without substantive change.

The proposed new sections would describe AmeriCorps':

• Statutory basis and origination;

• Purpose, to administer the programs established under the national service laws; and mission, to improve lives, strengthen communities, and foster civic engagement through service and volunteering;

• Organization, including the roles of the Chief Executive Officer and the Board of Directors;

• Headquarters, including leadership positions; and region offices, referring to AmeriCorps' website for details on contact information;

• Four main national service programs: AmeriCorps NCCC, AmeriCorps Seniors, AmeriCorps State and National, and AmeriCorps VISTA; and

• Focus areas, which include but are not limited to, disaster services, economic opportunity, education, environmental stewardship, healthy futures, and veterans and military families.

Proposed edits to the sections addressing AmeriCorps' logos specify the logos' fonts and the direction of the flag in the logos and make other minor grammatical changes.

II. Regulatory Analyses

A. Executive Orders 12866 and 13563

Executive Orders (E.O.) 12866 and 13563 direct agencies to assess all costs and benefits of available regulatory alternatives and, if regulation is necessary, to select regulatory approaches that maximize net benefits (including potential economic, environmental, public health and safety effects, distributive impacts, and equity). E.O. 13563 emphasizes the importance of quantifying both costs and benefits, of reducing costs, of harmonizing rules, and of promoting flexibility. The Office of Information and Regulatory Affairs in the Office of Management and Budget has determined that this is not a significant regulatory action.

B. Regulatory Flexibility Act

As required by the Regulatory Flexibility Act of 1980 (5 U.S.C. 601 et seq.), AmeriCorps certifies that this rule, if adopted, will not have a significant economic impact on a substantial number of small entities. Therefore, AmeriCorps has not performed the initial regulatory flexibility analysis that is required under the Regulatory Flexibility Act (5 U.S.C. 601 et seq.) for rules that are expected to have such results.

C. Unfunded Mandates Reform Act of 1995

For purposes of Title II of the Unfunded Mandates Reform Act of 1995, 2 U.S.C. 1531-1538, as well as Executive Order 12875, this regulatory action does not contain any Federal mandate that may result in increased expenditures in either Federal, State, local, or Tribal Governments in the aggregate, or impose an annual burden exceeding $100 million on the private sector.

D. Paperwork Reduction Act

Under the PRA, an agency may not conduct or sponsor a collection of information unless the collections of information display valid control numbers. This proposed rule does not include any information collections requiring approval by the Office of Management and Budget.

E. Executive Order 13132, Federalism

Executive Order 13132, Federalism, prohibits an agency from publishing any rule that has Federalism implications if the rule imposes substantial direct compliance costs on State and local governments and is not required by statute, or the rule preempts State law, unless the agency meets the consultation and funding requirements of section 6 of the Executive order. This rulemaking does not have any Federalism implications, as described above.

F. Takings (E.O. 12630)

This proposed rule does not affect a taking of private property or otherwise have taking implications under Executive Order 12630 because this proposed rule does not affect individual property rights protected by the Fifth Amendment or involve a compensable “taking.” A takings implication assessment is not required.

G. Civil Justice Reform (E.O. 12988)

This proposed rule complies with the requirements of Executive Order 12988. Specifically, this rulemaking: (a) meets the criteria of section 3(a) requiring that all regulations be reviewed to eliminate errors and ambiguity and be written to minimize litigation; and (b) meets the criteria of section 3(b)(2) requiring that all regulations be written in clear language and contain clear legal standards.

H. Consultation With Indian Tribes (E.O. 13175)

AmeriCorps recognizes the inherent sovereignty of Indian Tribes and their right to self-governance. We have evaluated this rulemaking under our consultation policy and the criteria in E.O. 13175 and determined that this proposed rule does not impose substantial direct effects on Federally recognized Tribes.

I. Clarity of This Regulation

We are required by Executive Orders 12866 (section 1(b)(12)), and 12988 (section 3(b)(1)(B)), and 13563 (section 1(a)), and by the Presidential Memorandum of June 1, 1998, to write all rules in plain language. This means that each proposed rule we publish must: (a) be logically organized; (b) use the active voice to address readers directly; (c) use clear language rather than jargon; (d) be divided into short sections and sentences; and (e) use lists and tables wherever possible. If you feel that we have not met these requirements, please send us comments by one of the methods listed in the ADDRESSES section. To help us revise the rule, your comments should be as specific as possible.

List of Subjects in 45 CFR Part 2500

Organization and functions (Government agencies).

For the reasons discussed in the preamble, under the authority of 42 U.S.C. 12651c(c), the Corporation for National and Community Service proposes to revise 45 CFR part 2500 to read as follows:

PART 2500—AMERICORPS STATEMENT OF ORGANIZATION, AGENCY OPERATING NAME, AND LOGOS

Subpart A—Introduction
Sec.
2500.1 Creation and authority.
2500.2 Agency operating name.
2500.3 Purpose and mission.
Subpart B—Organization
2500.10 General.
2500.11 AmeriCorps leadership.
2500.12 Region offices.
Subpart C—Programs
2500.20 Program descriptions.
2500.21 Focus areas.
Subpart D—Logos
2500.30 Description of logos.
2500.31 Retirement of logos.
2500.32 Authority to affix logos.

Authority: 5 U.S.C. 552(a)(1); 42 U.S.C. 4950, et seq., as amended; 42 U.S.C. 12501 et seq., as amended; section 203(c), Pub. L. 103-82, 107 Stat. 892 (42 U.S.C. 12651 note); Proc. 6662, 59 FR 16507, 3 CFR, 1994 Comp., p. 22).

Subpart A—Introduction

§ 2500.1 Creation and authority.

The National and Community Service Trust Act of 1993 established the Corporation for National and Community Service (CNCS) as a Federal agency, organized in the form of a Government corporation within the Executive Branch, to administer the national service programs authorized by the National and Community Service Act of 1990. CNCS also administers the national service programs authorized by the Domestic Volunteer Service Act of 1973, as amended, and previously administered by the former Federal ACTION Agency.

§ 2500.2 Agency operating name.

(a) The Corporation for National and Community Service has adopted AmeriCorps as its official agency operating name.

(b) Use of AmeriCorps as the agency operating name incorporates the Corporation for National and Community Service by reference.

§ 2500.3 Purpose and mission.

AmeriCorps' purpose is to administer the programs established under the national service laws. AmeriCorps' mission is to improve lives, strengthen communities, and foster civic engagement through service and volunteering.

Subpart B—Organization

§ 2500.10 General.

(a) A Chief Executive Officer (CEO) heads AmeriCorps. The CEO has authority and control over AmeriCorps personnel, except those in the Agency's Office of Inspector General, and is responsible for exercising the powers and fulfilling the duties that are not reserved to the Board of Directors.

(b) The Board of Directors has responsibility for setting AmeriCorps' overall policy, reviewing AmeriCorps' strategic plan, and fulling other duties for which it is responsible under the national service laws.

(c) AmeriCorps consists of headquarters and region offices, which serve the States and Territories.

§ 2500.11 AmeriCorps leadership.

(a) AmeriCorps' leadership conducts overall planning, coordination of programs, and all supporting internal operations. AmeriCorps leadership includes, but is not limited to, the following AmeriCorps officials:

(1) CEO

(2) Chief of Staff

(3) General Counsel

(4) Chief Operating Officer

(5) Chief Financial Officer

(6) Chief Program Officer

(7) Chief Diversity and Inclusion Officer

(8) Directors of AmeriCorps programs and offices

(b) AmeriCorps' public website contains current information on Agency leadership at www.americorps.gov/about/our-team/our-leadership.

§ 2500.12 Region offices.

(a) AmeriCorps' region offices serve the States and Territories. The AmeriCorps website contains contact information for each of these region offices at www.americorps.gov/contact/region-offices.

(b) AmeriCorps NCCC has a campus facility in each of its regions, which serve the States and Territories. The AmeriCorps website contains current information on the locations of and contact information for each of the NCCC regions at www.americorps.gov/contact/americorps-nccc-regions.

Subpart C—Programs

§ 2500.20 Program descriptions.

(a) AmeriCorps operates four main national service programs: AmeriCorps NCCC, AmeriCorps Seniors, AmeriCorps State and National, and AmeriCorps VISTA. Additional information on each of these programs and additional AmeriCorps programs is available at www.americorps.gov.

(1) AmeriCorps NCCC is a full-time residential service program for individuals aged 18 to 24 (unless otherwise authorized), as defined by statute. Individuals serving in the NCCC program complete team-based service projects that respond to priority national and community needs. AmeriCorps NCCC program staff recruit, train, and manage volunteers (called “members”) and partner with organizations that serve as project sponsors. FEMA Corps is a sub-program that AmeriCorps NCCC manages in partnership with the Federal Emergency Management Agency. It places members in service positions to perform disaster public assistance, planning, preparedness, and recovery activities.

(2) AmeriCorps Seniors focuses on providing service opportunities for individuals aged 55 years or older. It operates four national service programs: the Foster Grandparent Program, Senior Companion Program, RSVP, and the Senior Demonstration Program. Under each of these programs, AmeriCorps Seniors provides grants to sponsoring organizations to meet priority national and community needs. The sponsoring organizations then recruit and enlist local volunteers, and address performance measures as required by grant terms and conditions.

(3) AmeriCorps State and National provides grants to States, Territories, Indian Tribes, public and private nonprofit organizations, local governments, and institutions of higher education to carry out national service programs, offering a wide range of service opportunities. In addition to grant funds to support direct programming, AmeriCorps State and National also provides general operating funding for State service commissions.

(4) AmeriCorps VISTA is a program for individuals aged 18 and older to participate in full-time service to strengthen and supplement efforts to eliminate and alleviate poverty and poverty-related problems in the United States. AmeriCorps VISTA partners with local organizations to recruit, select, train, and assign volunteers (“members”) to work on projects at a sponsoring organization or one of its project sites.

(b) In addition to its four main national service programs, AmeriCorps also operates several additional programs and activities. These include the Martin Luther King, Jr., Day of Service; the September 11th Day of Service; the Volunteer Generation Fund; and other national service programs that AmeriCorps establishes through agreements with other Federal agencies.

§ 2500.21 Focus areas.

Through its programs, AmeriCorps provides funding and volunteer opportunities to address pressing unmet human, educational, environmental, and public safety needs of the United States, without displacing existing workers, and to meet the additional purposes set out in the national service laws. AmeriCorps' focus areas include, but are not limited to, disaster services, economic opportunity, education, environmental stewardship, healthy futures, and veterans and military families.

Subpart D—Logos

§ 2500.30 Description of logos.

(a) The AmeriCorps logo (Logo) is the key element in agency identification. It provides a visual representation of the Agency's role to unite America by bringing people together to serve communities. It is symbolic of the way AmeriCorps members and volunteers lift and improve communities through service and volunteering. This Logo links the graphic communications of all Agency programs.

(b) The Logo is an image of a solid circle containing an A where the right-hand pillar is a solid block line and the left-hand pillar is represented by a flagpole with the flag in motion, appearing to fly from the left to the right and forming the A as the flag intersects with the other pillar. AmeriCorps appears in bold to the right of the mark.

(c) The AmeriCorps Seniors logo (Seniors Logo) identifies the highlighted AmeriCorps Seniors programs and represents the Agency's commitment to programs and volunteer opportunities for older Americans.

(d) The Seniors Logo contains the word Seniors beneath AmeriCorps, to the right of the circle containing the A.

§ 2500.31 Retirement of logos.

The agency officially retired the day-to-day use of all pre-existing logos, emblems, and other insignia, except the Days of Service logos, but does not relinquish the legal rights to any retired logos.

§ 2500.32 Authority to affix logos.

Restrictions on the use of AmeriCorps logos are found in 45 CFR 2540.500 through 2540.560.

Fernando Laguarda,
General Counsel.

[FR Doc. 2023-08403 Filed 5-1-23; 8:45 am]

BILLING CODE 6050-28-P